DEPARTMENT OF HEALTH AND HUMAN SERVICES

Health Resources and Services Administration

Response to Solicitation of Comments on a Funding Priority for Multiple Counties Under the Fiscal Year 2007 New Access Points in High Poverty Counties Grant Opportunity

AGENCY: Health Resources and Services Administration (HRSA), HHS.

ACTION: Response to Solicitation of Comments.

SUMMARY: A notice was published in the Federal Register (FR) on December 6, 2006, (Vol. 71, No. 234, pp. 70780-70781), describing a funding priority to be included in the fiscal year (FY) 2007 New Access Points in High Poverty Counties grant opportunity. The notice requested public comments on the proposed funding priority to be sent to HRSA no later than January 5, 2007.

Comments were received from over 30 organizations and/or individuals in response to the notice of the proposed funding priority. The majority of comments received did not pertain specifically to the proposed funding priority, but rather the President's High Poverty Counties Initiative (“the Initiative”) and grant opportunity; therefore this notice presents a summary of the general comments received with HRSA's corresponding responses including references to the FY 2007 New Access Points in High Poverty Counties (HRSA-07-069) funding opportunity, as well as a summary of the final funding priority.

Summary of Comments Received

Issue: Methodology and List of Eligible Counties

Comments: Over 25 of the comments received requested additional information on the poorest counties that would be eligible for the grant opportunities offered under the Initiative. A number of comments offered suggestions for the methodology of determining the eligible counties, while others solely requested a list of the eligible counties.

Agency Response: Specific eligibility requirements for the New Access Points in High Poverty Counties (HRSA-07-069) opportunity, as well as the Planning Grants in High Poverty Counties (HRSA-07-066) funding opportunity, are detailed within the respective grant announcements available online through the HRSA Web site at: http://www.hrsa.gov/grants. Eligibility for both opportunities is limited to the 200 eligible high poverty counties that have been determined using two cohorts with no section 330 grantee site and a high percentage of people living below 200 percent of the Federal poverty level. One cohort consists of counties with populations at or above 100,000 (high population) and makes up approximately 25 percent of the total eligible counties. The other cohort consists of counties with populations below 100,000 (low population) and constitutes approximately 75 percent of the eligible counties. The low population counties were also screened by a provider need criteria. To be eligible, low population counties were required to exhibit a need of at least one additional primary care provider (PCP), using a standard of one PCP for every 3,000 persons. The list of eligible counties is included within each of the grant announcements.

Issue: Focusing on County Level for Eligibility

Comments: Comments expressed specific concern over the decision to limit eligibility for the Initiative to the county level, especially since counties differ significantly in geographic size, population density, diversity, etc. Suggestions included opening the competition to all communities, with a priority instead to the defined high poverty counties.

Agency Response: The Initiative was established to further the success of the President's Health Center Initiative by focusing support and increasing access to quality health services in the Nation's poorest counties without a health center. Counties were selected as the focus of this particular initiative because they are a recognized boundary for the delivery of public health and social services in many communities, and the Initiative will help support county level efforts to provide needed primary care services to their populations.

Issue: Guidance information

Comments: Comments requested further information on the application guidance release date, funding levels, and how to apply for the funding opportunities.

Agency Response: The New Access Point in High Poverty Counties (HRSA-07-069) and Planning Grants in High Poverty Counties (HRSA-07-066) opportunities were both released March 14, 2007, and were made available on the HRSA Web site at http://www.hrsa.gov/grants, or through Grants.gov at: http://www.grants.gov. In FY 2007, up to 120 New Access Points in High Poverty Counties are estimated to be funded. HRSA anticipates awarding a minimum of $24 million for this activity in FY 2007 and applications were due May 23, 2007. Subject to the availability of funds, up to 25 Planning Grants in High Poverty Counties will be funded, with applications that were due May 16, 2007. All applications were to be submitted electronically through Grants.gov by the established due dates.

Summary of the Funding Priority

A funding priority is defined as the favorable adjustment of combined review scores of individually approved applications when applications meet specified criteria. An adjustment is made by a set, pre-determined number of points. The New Access Point in High Poverty Counties funding opportunity has one funding priority of five (5) points for “Multi-County Applications.” In order to be considered for this funding priority, applicants must demonstrate that a minimum of 15 percent of the total target population will come from a county(ies) other than the eligible high poverty county in which the new access point will be located. Applicants requesting consideration of a funding priority must initiate the request and provide the expected distribution of the target population among the counties to be served by the high poverty county new access point project.

FOR FURTHER INFORMATION CONTACT: Preeti Kanodia, Division of Policy and Development, Bureau of Primary Health Care, Health Resources and Services Administration. Ms. Kanodia may be contacted by e-mail at PKanodia@hrsa.gov or via telephone at (301) 594-4300.

Dated: June 5, 2007.
Elizabeth M. Duke,
Administrator.

[FR Doc. E7-11220 Filed 6-8-07; 8:45 am]

BILLING CODE 4165-15-P